DEPARTMENT OF HOMELAND SECURITY

Coast Guard

[33 CFR Part 147

[Docket Number USCG-2023-0277]

RIN 1625-AA00

Safety Zone; Vineyard Wind 1 Wind Farm Project Area, Outer Continental Shelf, Lease OCS-A 0501, Offshore Massachusetts, Atlantic Ocean; Correction

AGENCY: Coast Guard, DHS.

ACTION: Temporary interim rule; correction and withdrawal.

SUMMARY: On May 2, 2024, the Coast Guard published a temporary interim rule and request for comments extending the effective period for the 63 temporary 500-meter safety zones around the construction of each facility during the development of the Vineyard Wind 1 Wind Farm project area. That rule contained an incorrect phone number for the First Coast Guard District Command Center. This document corrects the phone number in the regulatory text of the rule. This document also withdraws a correction that we issued on May 14, 2024, that proceeded to fix the wrong phone number in the temporary interim rule.

DATES: This correction is effective June 1, 2024. As of May 21, 2024, the temporary interim rule correction published on May 14, 2024, at 89 FR 41895, is withdrawn. Comments on the temporary interim rule (89 FR 35709, May 2, 2014) are still due on or before July 31, 2024.

SUPPLEMENTARY INFORMATION: On May 2, 2024, the Coast Guard published a temporary interim rule and request for comments titled “Safety Zone; Vineyard Wind 1 Wind Farm Project Area, Outer Continental Shelf, Lease OCS-A 0501, Offshore Massachusetts, Atlantic Ocean” (89 FR 35709). In addition, on May 14, 2024, we published a temporary interim rule; correction that stated it was correcting a phone number in the original temporary interim rule. However, the correction it made was inaccurate and we are withdrawing that correction document.

In the temporary interim rule regulatory text we discussed a how a persons or vessels seeking to enter the safety zone must request authorization from the First Coast Guard District Commander via VHF-FM channel 16 or by phone calling First Coast Guard District Command Center. The phone number listed in the regulatory text was discovered to be erroneous and requires correction.

Persons or vessels seeking permission to enter the safety zone must request authorization from the First Coast Guard District Commander via VHF-FM channel 16 or by phone at 866-842-1560 (First Coast Guard District Command Center).

Therefore, we are making the following correction to the phone number provided in the temporary interim rule regulatory text in § 147.T01-0277(d) to ensure that interested persons can get in touch with the First Coast Guard District Command Center.

Correction

In FR Doc. 2024-09538 appearing on page 35709 in the Federal Register of Thursday, May 2, 2024, the following correction is made:

§ 147.T01-0277 [Corrected]

1. On page 89 FR 35712, in the second column, in paragraph (d) of § 147.T01-0277, the phone number, “617-223-1560”, is corrected to read “866-842-1560”.

M.T. Cunningham,
Chief, Office of Regulations and Administrative Law, U.S. Coast Guard.

[FR Doc. 2024-11113 Filed 5-20-24; 8:45 am]

BILLING CODE 9110-04-P